FEDERAL COMMUNICATIONS COMMISSION

47 CFR Part 51

[WC Docket No. 18-156; FCC 20-143; FRS #33399]

8YY Charge Reform

AGENCY: Federal Communications Commission.

ACTION: Final rule; announcement of effective date.

SUMMARY: In this document, the Commission announces that the Office of Management and Budget (OMB) has approved, for a period of three years, the information collection associated with the Commission's 8YY Charge Reform Report and Order (Order)'s toll free or 8YY intercarrier compensation rules. This document is consistent with the Order, which stated that the Commission would publish a document in the Federal Register announcing the effective date of those rules.

DATES: The amendments to §§ 51.907(i) through (k) (instruction 4), 51.909(l) through (o) (instruction 5), and 51.911(e) (instruction 6.b), published at 85 FR 75894, November 27, 2020, are effective June 24, 2021.

FOR FURTHER INFORMATION CONTACT: Ahuva Battams, Pricing Policy Division, Wireline Competition Bureau, at (202) 418-1565, or email: ahuva.battams@fcc.gov.

SUPPLEMENTARY INFORMATION: This document announces that, on May 13, 2021, OMB approved, for a period of three years, the information collection requirements relating to the 8YY intercarrier compensation rules contained in the Commission's Order, FCC 20-143, published at 85 FR 75894. The OMB Control Number is 3060-0298. The Commission publishes this document as an announcement of the effective date of the rules. If you have any comments on the burden estimates listed below, or how the Commission can improve the collections and reduce any burdens caused thereby, please contact Nicole Ongele, Federal Communications Commission, 45 L St. NE, Washington, DC 20554. Please include the OMB Control Number, 3060-0298, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on May 13, 2021, for the information collection requirements contained in the modifications to the Commission's rules in 47 CFR part 51.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0298.

The foregoing notice is required by the Paperwork Reduction Act of 1995, Public Law 104-13, October 1, 1995, and 44 U.S.C. 3507.

The total annual reporting burdens and costs for the respondents are as follows:

OMB Control Number: 3060-0298.

OMB Approval Date: May 13, 2021.

OMB Expiration Date: May 31, 2024.

Title: Part 61, Tariffs (Other than Tariff Review Plan).

Form Number: N/A.

Respondents: Businesses or other for-profit entities.

Number of Respondents and Responses: 2,925 respondents; 9,585 responses.

Estimated Time per Response: 1-50 hours.

Frequency of Response: One-time, biennial and on-occasion reporting requirements.

Obligation To Respond: Required to obtain or retain benefits. The statutory authority for this information collection is contained in sections 1-5, 201-205, 208, 251-271, 403, 502, and 503 of the Communications Act of 1934, as amended, 47 U.S.C. 151-155, 201-205, 208, 251-271, 403, 502 and 503.

Total Annual Burden: 244,477 hours.

Total Annual Cost: $1,584,000.

Nature and Extent of Confidentiality: Respondents are not being asked to submit confidential information to the Commission. If the Commission requests respondents to submit information which respondents believe is confidential, respondents may request confidential treatment of such information under 47 CFR 0.459 of the Commission's rules.

Privacy Act: No impact(s).

Needs and Uses: Sections 201, 202, 203, 204 and 205 of the Communications Act of 1934, (Act) as amended, 47 U.S.C. 201, 202, 203, 204 and 205, require that common carriers establish just and reasonable charges, practices, and regulations, which must be filed with the Commission to determine whether such schedules are just, reasonable and not unduly discriminatory. On October 9, 2020, the Commission released the Order, FCC 20-143, published at 85 FR 75894, which transitions intercarrier compensation for toll-free services either to lower, uniform rate caps or to bill-and-keep over approximately three years as a means of curtailing abuse of the 8YY intercarrier compensation regime. The Order requires price cap and rate-of-return carriers to establish separate rate elements for certain interstate and intrastate toll free and non-toll free services. Carriers are also required to lower the 8YY database query charges over three years, and are prohibited from charging for more than one query per call. Competitive local exchange carriers (LECs) assessing a tariffed intrastate or interstate Toll Free Database Query Charge must cap such charges and revise their tariffs to ensure that those charges do not exceed the rates charged by the competing incumbent LEC.

The information collected through carriers' tariffs is used by the Commission and state commissions to determine whether services offered are just and reasonable, as the Act requires. The tariffs and any supporting documentation are examined in order to determine if the services are offered in a just and reasonable manner.

Federal Communications Commission.
Marlene Dortch,
Secretary.

[FR Doc. 2021-13213 Filed 6-23-21; 8:45 am]

BILLING CODE 6712-01-P